DEPARTMENT OF ENERGY

Federal Energy Regulatory Commission

[Docket No. IC15-10-000]

Commission Information Collection Activities (FERC-732); Comment Request

AGENCY: Federal Energy Regulatory Commission, DOE.

ACTION: Comment request.

SUMMARY: In compliance with the requirements of the Paperwork Reduction Act of 1995, 44 U.S.C. 3507(a)(1)(D), the Federal Energy Regulatory Commission (Commission or FERC) is submitting its information collection [FERC-732, Electric Rate Schedules and Tariffs: Long-Term Firm Transmission Rights in Organized Electricity Markets] to the Office of Management and Budget (OMB) for review of the information collection requirements. Any interested person may file comments directly with OMB and should address a copy of those comments to the Commission as explained below. The Commission previously issued a Notice in the Federal Register (80 FR 45214, 7/29/2015) requesting public comments. The Commission received no comments on the FERC-732 and is making this notation in its submittal to OMB.

DATES: Comments on the collection of information are due by November 20, 2015.

ADDRESSES: Comments filed with OMB, identified by the OMB Control No. 1902-0245, should be sent via email to the Office of Information and Regulatory Affairs: oira_submission@omb.gov. Attention: Federal Energy Regulatory Commission Desk Officer. The Desk Officer may also be reached via telephone at 202-395-4718.

A copy of the comments should also be sent to the Commission, in Docket No. IC15-10-000, by either of the following methods:

• eFiling at Commission's Web site: http://www.ferc.gov/docs-filing/efiling.asp.

• Mail/Hand Delivery/Courier: Federal Energy Regulatory Commission, Secretary of the Commission, 888 First Street NE., Washington, DC 20426.

Instructions: All submissions must be formatted and filed in accordance with submission guidelines at: http://www.ferc.gov/help/submission-guide.asp. For user assistance contact FERC Online Support by email at ferconlinesupport@ferc.gov, or by phone at: (866) 208-3676 (toll-free), or (202) 502-8659 for TTY.

Docket: Users interested in receiving automatic notification of activity in this docket or in viewing/downloading comments and issuances in this docket may do so at http://www.ferc.gov/docs-filing/docs-filing.asp.

FOR FURTHER INFORMATION CONTACT: Ellen Brown may be reached by email at DataClearance@FERC.gov, by telephone at (202) 502-8663, and by fax at (202) 273-0873.

SUPPLEMENTARY INFORMATION:

Title: FERC-732, Electric Rate Schedules and Tariffs: Long-Term Firm Transmission Rights in Organized Electricity Markets.

OMB Control No.: 1902-0245.

Type of Request: Three-year extension of the FERC-732 information collection requirements with no changes to the reporting requirements.

Abstract: 18 CFR part 42 provides the reporting requirements of FERC-732 as they pertain to long-term transmission rights. To implement section 1233 ¹ of the Energy Policy Act of 2005 (EPAct 2005),² the Commission requires each transmission organization that is a public utility with one or more organized electricity markets to make available long-term firm transmission rights that satisfy each of the Commission's guidelines.

¹ 16 U.S.C. 824 et al.

² Added new section 217 (16 U.S.C. 824Q) to the Federal Power Act (FPA).

The FERC-732 regulations require that transmission organizations (that are public utilities with one or more organized electricity markets) choose one of two ways to file:

• File tariff sheets making long-term firm transmission rights available that are consistent with each of the guidelines established by FERC

• File an explanation describing how their existing tariffs already provide long-term firm transmission rights that are consistent with the guidelines.

Additionally, the Commission requires each transmission organization to make its transmission planning and expansion procedures and plans available to the public.

FERC-732 enables the Commission to exercise its wholesale electric rate and electric power transmission oversight and enforcement responsibilities in accordance with the FPA, the Department of Energy Organization Act (DOE Act), and EPAct 2005.

Type of Respondents: Public utility with one or more organized electricity markets.

Estimate of Annual Burden: ³ The Commission estimates the annual public reporting burden for the information collection as:

³ The Commission defines burden as the total time, effort, or financial resources expended by persons to generate, maintain, retain, or disclose or provide information to or for a Federal agency. For further explanation of what is included in the information collection burden, reference 5 Code of Federal Regulations 1320.3.

⁴ The cost figure is the 2015 FERC average salary plus benefits ($149,489/year or $72/hour). FERC staff estimates that industry costs for salary plus benefits are similar to Commission costs.

FERC-732, Electric Rate Schedules and Tariffs: Long-Term Firm Transmission Rights in Organized Electricity Markets
| Number of respondents | Annual number of responses per respondent | Total number of responses | Average burden & cost per response ⁴ | Total annual burden hours & total annual cost | Cost per respondent ($)
| (1) | (2) | (1)*(2)=(3) | (4) | (3)*(4)=(5) | (5)÷(1)
Public Utility with One or More Organized Electricity Markets | 1 | 1 | 1 | 1,180 $84,960 | 1,180 $84,960 | $84,960

Comments: Comments are invited on: (1) Whether the collection of information is necessary for the proper performance of the functions of the Commission, including whether the information will have practical utility; (2) the accuracy of the agency's estimate of the burden and cost of the collection of information, including the validity of the methodology and assumptions used; (3) ways to enhance the quality, utility and clarity of the information collection; and (4) ways to minimize the burden of the collection of information on those who are to respond, including the use of automated collection techniques or other forms of information technology.

Dated: October 15, 2015.
Kimberly D. Bose,
Secretary.

[FR Doc. 2015-26725 Filed 10-20-15; 8:45 am]

BILLING CODE 6717-01-P